DEPARTMENT OF THE TREASURY

Submission for OMB Review; Comment Request

July 25, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 5, 2000 to be assured of consideration.

Internal Revenue Service (IRS)

OMB Number: 1545-1359.

Regulation Project Number: INTL-978-86 NPRM.

Type of Review: Extension.

Title: Information Reporting by Passport and Permanent Residence Applicants.

Description: The regulations require applicants for passports and permanent residence status to report certain tax information on the applications. The regulations are intended to give the Service notice of non-filers and of persons with foreign source income not subject to normal withholding, and to notify such persons of their duty to file U.S. tax returns.

Respondents: Individuals or households.

Estimated Number of Respondents: 5,500,000.

Estimated Burden Hours Per Respondent: 30 minutes.

Estimated Total Reporting Burden: 750,000 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 00-19689 Filed 8-2-00; 8:45 am]

BILLING CODE 4830-01-P